DEPARTMENT OF TRANSPORTATION

Federal Aviation Administration

14 CFR Part 39

[Docket No. FAA-2024-1701; Project Identifier MCAI-2024-00153-T; Amendment 39-22986; AD 2025-05-14]

RIN 2120-AA64

Airworthiness Directives; Airbus SAS Airplanes

Editorial Note: Rule document 2024-04334 originally published on pages 12449-12452 in the issue of Tuesday, March 18, 2025. In that publication, on page 12449, in the second column, in the DATES section, in the first through fourth lines, “INSERT DATE 35 DAYS AFTER DATE OF PUBLICATION IN THE Federal Register]” should read “April 22, 2025”. The rule is republished here corrected and in its entirety.

AGENCY: Federal Aviation Administration (FAA), DOT.

ACTION: Final rule.

SUMMARY: The FAA is adopting a new airworthiness directive (AD) for all Airbus SAS Model A350-941 and A350-1041 airplanes. This AD was prompted by a report indicating that the thrust reverser and pylon thermal blankets were found damaged due to air leaking from the pre-cooler exchanger (PCE). This AD requires repetitively testing the PCE for air leaks and reporting the results, and, depending on findings, inspecting the thermal blankets for damage and replacing the PCE, as specified in a European Union Aviation Safety Agency (EASA) AD, which is incorporated by reference. The FAA is issuing this AD to address the unsafe condition on these products.

DATES: This AD is effective April 22, 2025.

The Director of the Federal Register approved the incorporation by reference of a certain publication listed in this AD as of April 22, 2025.

ADDRESSES:

AD Docket: You may examine the AD docket at regulations.gov under Docket No. FAA-2024-1701; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-1701.

FOR FURTHER INFORMATION CONTACT: Dan Rodina, Aviation Safety Engineer, FAA, 2200 South 216th St., Des Moines, WA 98198; phone: 206-231-3225; email: dan.rodina@faa.gov.

SUPPLEMENTARY INFORMATION:

Background

The FAA issued a notice of proposed rulemaking (NPRM) to amend 14 CFR part 39 by adding an AD that would apply to all Airbus SAS Model A350-941 and A350-1041 airplanes. The NPRM published in the Federal Register on July 1, 2024 (89 FR 54393). The NPRM was prompted by AD 2024-0058R1, dated April 16, 2024, issued by EASA, which is the Technical Agent for the Member States of the European Union. EASA AD 2024-0058R1 stated that during a maintenance inspection, thrust reverser and pylon thermal blankets were found damaged due to air leaking from the PCE.

In the NPRM, the FAA proposed to require repetitively testing the PCE for air leaks and reporting the results, and, depending on findings, inspecting the thermal blankets for damage and replacing the PCE.

Since the NPRM was issued, EASA issued AD 2024-0058R2, dated October 4, 2024 (EASA AD 2024-0058R2) (also referred to as the MCAI). EASA AD 2024-0058R2 adds guidance regarding updated inspection procedures with instructions for additional inspections that can be accomplished before contacting Airbus. EASA AD 2024-0058R2 retains all requirements of EASA AD 2024-0058R1 and does not introduce any new requirements.

The FAA is issuing this AD to address damage to thermal blankets that, if combined with an independent event of engine fire, could lead to a temporary uncontrolled fire.

You may examine the MCAI in the AD docket at regulations.gov under Docket No. FAA-2024-1701.

Discussion of Final Airworthiness Directive

Comments

The FAA received a comment from the Air Line Pilots Association, International (ALPA) who supported the NPRM without change.

The FAA received additional comments from Delta Airlines (Delta). The following presents the comments received on the NPRM and the FAA's response to each comment.

Request To Clarify Conflicting Compliance Time

Delta stated that EASA AD 2024-0058R1 and Airbus Alert Operator's Transmission (AOT) A36P010-23, Revision 01, dated April 17, 2024, have conflicting compliance times for the next leak test requirement after initial testing. Delta requested clarification of the compliance time for the PCE repetitive leak tests.

The FAA agrees to clarify. EASA had previously responded to a similar question in the Comment Response Document for EASA Proposed AD (PAD) 2024-0058. In that document, EASA confirmed that the first leak test must be accomplished before 5,500 flight cycles since new, which serves as the initial starting point for subsequent flight-cycle intervals. Thereafter, all subsequent inspections must occur at intervals not greater than 100 flight cycles. The FAA notes that if an operator conducts the first leak test at, for example, 5,400 total flight cycles, then the next leak test must occur before 5,500 total flight cycles (i.e., an interval not to exceed 100 flight cycles since the previous leak test). However, if the operator decides to perform the leak test at, for example, 4,500 total flight cycles, then the next leak test must be performed before 4,600 total flight cycles. The FAA has not changed this AD in this regard.

Request To Revise Initial Compliance Time

Delta stated that Airbus has recommended not to perform the PCE leak test earlier than 100 flight cycles before reaching the 5,500-flight-cycle threshold, due to the availability of spare parts. The FAA infers that Delta is requesting the compliance time be revised to specify that the initial leak test should not be accomplished prior to the accumulation of 5,400 flight cycles on the PCE.

The FAA does not agree to change this compliance time. The FAA notes that operators may choose to complete the initial leak test at any point before the 5,500-flight cycle threshold, including several flight cycles before that threshold. Additionally, in developing an appropriate compliance time for this action, the FAA considered the recommendations of EASA, the urgency associated with the subject unsafe condition, the availability of required parts, and the practical aspect of accomplishing the required actions. However, under the provisions of paragraph (i)(1) of this AD, the FAA will consider requests for approval of an extension of the compliance time if sufficient data are submitted to substantiate that the new compliance time would provide an acceptable level of safety. The FAA has not changed this AD in this regard.

Request To Limit Reporting Requirement

Delta requested that paragraph (h) of the proposed AD be revised to exclude the requirement to contact Airbus and provide pictures of PCEs information, as specified in Airbus AOT A36P010-23, Revision 01, dated April 17, 2024. Delta stated that operators should not be mandated to provide pictures of an affected unit's cold path and smart aircraft condition monitoring system recorder (SAR017) data from flights because use of this information would not directly impact safety. Delta expressed concern over the risk of non-compliance with the proposed AD if they were unable to obtain SAR017 data from the next flight after PCE replacement. Delta stated that Airbus uses reporting for safety condition investigations and software development. Delta also stated that Airbus indicated that any SAR017 data of any flight after PCE replacement is acceptable, when SAR017 data is available.

The FAA disagrees with removing the reporting requirement but does agree to extend the compliance time for reporting SAR017 data. The reporting requirement is intended to provide the original equipment manufacturer (OEM) with information to determine the root cause of the unsafe condition identified in this AD. Furthermore, the OEM and EASA will review the inspection results, and other corrective actions may result from the reported data. Although the SAR017 data will be helpful for the OEM and EASA to determine if future action is needed, reporting that data is not an immediate or urgent requirement. Therefore, in consideration of Delta's comment, the FAA has revised the reporting requirement so that the SAR017 data is due 6 months after the completion of the applicable actions in this AD.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

The FAA reviewed EASA AD 2024-0058R2, dated October 4, 2024. This material specifies procedures for performing repetitive air leak tests of a certain PCE and reporting the results. If a leak is detected, EASA AD 2024-0058R2 specifies to replace the PCE and visually inspect the thrust reverser and pylon thermal blankets and replace if damaged. EASA AD 2024-0058R2 also requires performing an air leak test on any newly installed PCE. EASA AD 2024-0058R2 also limits the installation of affected PCEs.

This material is reasonably available because the interested parties have access to it through their normal course of business or by the means identified in the ADDRESSES section.

Interim Action

The FAA considers that this AD is an interim action. If final action is later identified, the FAA might consider further rulemaking then.

Costs of Compliance

The FAA estimates that this AD affects 32 airplanes of U.S. registry. The FAA estimates the following costs to comply with this AD:

Estimated Costs for Required Actions
Labor cost | Parts cost | Cost per product | Cost on U.S. operators
3 work-hours × $85 per hour = $255 | $0 | $255 | $8,160

Estimated Costs of On-Condition Actions
Labor cost | Parts cost | Cost per product
Up to 24 work-hours × $85 per hour = Up to $2,040 | Up to $18,844 | Up to $20,884.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

2025-05-14 Airbus SAS: Amendment 39-22986; Docket No. FAA-2024-1701; Project Identifier MCAI-2024-00153-T.

(a) Effective Date

This airworthiness directive (AD) is effective April 22, 2025.

(b) Affected ADs

None.

(c) Applicability

This AD applies to all Airbus SAS Model A350-941 and A350-1041 airplanes, certificated in any category.

(d) Subject

Air Transport Association (ATA) of America Code 36, Pneumatic.

(e) Unsafe Condition

This AD was prompted by a report indicating that the thrust reverser and pylon thermal blankets were found damaged due to air leaking from the pre-cooler exchanger (PCE). The FAA is issuing this AD to address the PCE leaking air. The unsafe condition, if not addressed, could result in thermal blanket damage that, if combined with an independent event of engine fire, could lead to a temporary uncontrolled fire.

(f) Compliance

Comply with this AD within the compliance times specified, unless already done.

(g) Requirements

Except as specified in paragraph (h) of this AD: Comply with all required actions and compliance times specified in, and in accordance with, European Union Aviation Safety Agency (EASA) AD 2024-0058R2, dated October 4, 2024 (EASA AD 2024-0058R2).

(h) Exceptions to EASA AD 2024-0058R2

(1) Where EASA AD 2024-0058R2 refers to March 11, 2024 [the effective date of the original issue of this [EASA] AD], this AD requires using the effective date of this AD.

(2) Where paragraph (4) of EASA AD 2024-0058R2 specifies if “any discrepancy, as defined in the AOT, is identified, before next flight, contact Airbus for approved repair instructions and accomplish those instructions accordingly,” this AD requires replacing that text with “any discrepancy is detected, the discrepancy must be repaired before further flight using a method approved by the Manager, AIR-520, Continued Operational Safety Branch, FAA; or EASA; or Airbus SAS's EASA Design Organization Approval (DOA). If approved by the DOA, the approval must include the DOA-authorized signature.”

(3) Paragraph (6) of EASA AD 2024-0058R2 specifies to report air leak test results to Airbus within a certain compliance time. For this AD, report test results at the applicable times specified in paragraphs (h)(3)(i) and (ii) of this AD.

(i) Report test results, except smart aircraft condition monitoring system recorder (SAR017) data, at the applicable time specified in paragraph (h)(3)(i)(A) or (B) of this AD.

(A) If the test was done on or after the effective date of this AD: Submit the report within 30 days after the test.

(B) If the test was done before the effective date of this AD: Submit the report within 30 days after the effective date of this AD.

(ii) Report SAR017 data at the applicable time specified in paragraph (h)(3)(ii)(A) or (B) of this AD.

(A) If the test was done on or after the effective date of this AD: Submit the SAR017 data within 6 months after the completion of each air leak test and applicable corrective actions required by this AD.

(B) If the test was done before the effective date of this AD: Submit the SAR017 data within 6 months after the effective date of this AD.

(4) This AD does not adopt the “Remarks” section of EASA AD 2024-0058R2.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, mail it to the address identified in paragraph (j) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraph (i)(2) of this AD, if any material referenced in EASA AD 2024-0058R2 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this AD, contact Dan Rodina, Aviation Safety Engineer, FAA, 2200 South 216th St., Des Moines, WA 98198; phone: 206-231-3225; email: dan.rodina@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2024-0058R2, dated October 4, 2024.

(ii) [Reserved]

(3) For EASA material identified in this AD, contact EASA, Konrad-Adenauer-Ufer 3, 50668 Cologne, Germany; telephone +49 221 8999 000; email ADs@easa.europa.eu; website easa.europa.eu. You may find this material on the EASA website ad.easa.europa.eu.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations, or email fr.inspection@nara.gov.

Issued on March 6, 2025.
Peter A. White,
Deputy Director, Integrated Certificate Management Division, Aircraft Certification Service.

[FR Doc. R1-2025-04334 Filed 3-31-25; 8:45 am]

BILLING CODE 0099-10-D